DEPARTMENT OF AGRICULTURE

Submission for OMB Review; Comment Request

January 24, 2020.

The Department of Agriculture has submitted the following information collection requirement(s) to OMB for review and clearance under the Paperwork Reduction Act of 1995, Public Law 104-13. Comments are requested regarding whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by February 28, 2020 will be considered. Written comments should be addressed to: Desk Officer for Agriculture, Office of Information and Regulatory Affairs, Office of Management and Budget (OMB), New Executive Office Building, 725 17th Street NW, Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food Safety and Inspection Service

Title: Permit to Obtain Specimens of Condemned or Other Inedible Materials from Official Establishments.

OMB Control Number: 0583-New.

Summary of Collection: The Food Safety and Inspection Service (FSIS) has been delegated the authority to exercise the functions of the Secretary as provided in the Federal Meat Inspection Act (FMIA) (21 U.S.C. 601, et. seq.), the Poultry Products Inspection Act 3et. seq.). These statutes mandate that FSIS protect the public by ensuring that meat, poultry, and egg products are wholesome, not adulterated, and properly labeled and packaged.

Need and Use of the Information: FSIS requires any person desiring specimens of condemned or other inedible materials, including embryos and specimens of animal parasites, to file a written application on the FSIS Form 6700-2, “Application and permit to Obtain Specimens from Official Establishments. The applicant must indicate the purpose for the specimens and arrange with and receive permission from the official establishment to obtain the specimens.

Description of Respondents: Business or other for-profit.

Number of Respondents: 1,642.

Frequency of Responses: Reporting: On occasion.

Total Burden Hours: 274.

Food Safety and Inspection Service

Title: Permit to Transport Undenatured Inedible Meat Products.

OMB Control Number: 0583-New.

Summary of Collection: The Food Safety and Inspection Service (FSIS) has been delegated the authority to exercise the functions of the Secretary as provided in the Federal Meat Inspection Act (FMIA) (21 U.S.C. 601, et. seq.). These statutes mandate that FSIS protect the public by ensuring that meat products are wholesome, not adulterated, and properly labeled and packaged. Under the regulations at 9 CFR 325.11(e), official establishments are to apply in writing to their District Office to obtain a permit for the transport of undenatured inedible meat products in commerce.

Need and Use of the Information: Official establishments write letters to their District Office that include their name, address of the applicant, a description of the type of business operations, and the purpose.

Description of Respondents: Business or other for-profit.

Number of Respondents: 150.

Frequency of Responses: Reporting: On occasion.

Total Burden Hours: 87.

Ruth Brown,
Departmental Information Collection Clearance Officer.

[FR Doc. 2020-01529 Filed 1-28-20; 8:45 am]

BILLING CODE 3410-DM-P